DEPARTMENT OF TRANSPORTATION

Federal Aviation Administration

Notice of Intent To Rule on Request To Release Airport Property at the Rocky Mountain Metropolitan Airport, Broomfield, CO

AGENCY: Federal Aviation Administration (FAA), DOT.

ACTION: Notice of request to release airport property.

SUMMARY: The FAA proposes to rule and invite public comment on the release of land at the Rocky Mountain Metropolitan Airport under the provisions of Section 125 of the Wendell H. Ford Aviation Investment Reform Act for the 21st Century (AIR 21), now 49 U.S.C. 47107(h)(2).

DATES: Comments must be received on or before March 6, 2013.

ADDRESSES: Comments on this application may be mailed or delivered to the FAA at the following address: Mr. John P. Bauer, Manager, Federal Aviation Administration, Northwest Mountain Region, Airports Division, Denver Airports District Office, 26805 E. 68th Avenue, Suite 224, Denver, Colorado 80249-6361.

In addition, one copy of any comments submitted to the FAA must be mailed or delivered to Mr. Kenneth E. Maenpa, Airport Director, Rocky Mountain Metropolitan Airport, Broomfield, Colorado, at the following address: Mr. Kenneth E. Maenpa, Airport Director, Rocky Mountain Metropolitan Airport, 11755 Airport Way, Broomfield, Colorado 80021.

FOR FURTHER INFORMATION CONTACT: Mr. Marc Miller, Colorado Engineer/Compliance Specialist, Federal Aviation Administration, Northwest Mountain Region, Denver Airports District Office, 26805 E. 68th Avenue, Suite 224, Denver, Colorado 80249-6361.

The request to release property may be reviewed, by appointment, in person at this same location.

SUPPLEMENTARY INFORMATION: The FAA invites public comment on the request to release property at the Rocky Mountain Metropolitan Airport under the provisions of the AIR 21 (49 U.S.C. 47107(h)(2)).

On January 15, 2013, the FAA determined that the request to release property at the Rocky Mountain Metropolitan Airport submitted by Jefferson County meets the procedural requirements of the Federal Aviation Administration. The FAA may approve the request, in whole or in part, no later than March 6, 2013.

The following is a brief overview of the request:

Jefferson County is proposing the release from the terms, conditions, reservations, and restrictions on a 120 acre parcel of acquired by Jefferson County on June 2, 1959. This property was transferred to the Jefferson County Airport Authority in April of 1966. With the dissolution of the Airport Authority in 1998, this property ownership was then transferred back to Jefferson County, as the airport sponsor, January 11, 1999. Elevation constraints of this parcel compared to the Runway environment makes it unusable for airport development. The property is currently being leased to the City of Westminster, and consists of the back nine holes of the Heritage Golf Course. The expected use of the property is to remain a golf course with the City of Westminster having ownership. The proceeds for the disposal of the property will be at fair market value and will be utilized to complete a much needed taxiway to enhance safety within the hangar area on the airfield. This proposed taxiway is identified on the current Airport Layout Plan.

Any person may inspect, by appointment, the request in person at the FAA office listed above under FOR FURTHER INFORMATION CONTACT.

In addition, any person may, upon appointment and request, inspect the application, notice and other documents germane to the application in person at the St George Airport.

Issued in Denver, Colorado, on January 15, 2013.
John P. Bauer,
Manager, Denver Airports District Office.

[FR Doc. 2013-02321 Filed 2-1-13; 8:45 am]

BILLING CODE P